DEPARTMENT OF EDUCATION

[Docket ID ED-2024-IES-0078]

Privacy Act of 1974; System of Records

AGENCY: Institute of Education Sciences, U.S. Department of Education.

ACTION: Notice of a new system of records.

SUMMARY: In accordance with the Privacy Act of 1974, as amended (Privacy Act), the U.S. Department of Education (Department) publishes this notice of a new system of records titled “Impact Evaluation of Training in Multi-Tiered Systems of Support for Reading (MTSS-R) in Early Elementary School” (18-13-48). This system contains personally identifiable information provided by school districts, schools, and individuals who participate in the impact evaluation of training in MTSS-R. The records in this system will be used to measure the effectiveness of two promising ways of providing technical assistance (TA) to improve the quality of reading instruction and how struggling elementary school students are identified and provided with extra help.

DATES: Submit your comments on this notice of a new system of records on or before November 12, 2024. This new system of records will become applicable upon publication in the Federal Register on October 11, 2024, unless it needs to be changed as a result of public comment. The routine uses outlined in the section titled “ROUTINE USES OF RECORDS MAINTAINED IN THE SYSTEM, INCLUDING CATEGORIES OF USERS AND PURPOSES OF SUCH USES” will become effective on the expiration of the 30-day period of public comment on November 12, 2024, unless they need to be changed as a result of public comment. The Department will publish any significant changes to the system of records or routine uses resulting from public comment.

ADDRESSES: Comments must be submitted via the Federal eRulemaking Portal at regulations.gov. However, if you require an accommodation or cannot otherwise submit your comments via regulations.gov, please contact the program contact person listed under FOR FURTHER INFORMATION CONTACT. The Department will not accept comments submitted by fax or by email, or comments submitted after the comment period closes. To ensure that the Department does not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “FAQ”.

Privacy Note: The Department's policy is to make all comments received from members of the public available for public viewing in their entirety on the Federal eRulemaking Portal at www.regulations.gov. Therefore, commenters should be careful to include in their comments only information that they wish to make publicly available.

Assistance to Individuals with Disabilities in Reviewing the Rulemaking Record: On request, the Department will provide an appropriate accommodation or auxiliary aid to an individual with a disability who needs assistance to review the comments or other documents in the public rulemaking record for this notice. If you want to schedule an appointment for this type of accommodation or auxiliary aid, please contact the person listed under FOR FURTHER INFORMATION CONTACT.

FOR FURTHER INFORMATION CONTACT: Teresa Cahalan, SORN coordinator, Institute of Education Sciences, U.S. Department of Education, Potomac Center Plaza, 550 12th Street SW, Room 4126, Washington, DC 20202. Telephone: 202-245-7299. Email: IES_SORN@ed.gov.

If you are deaf, hard of hearing, or have a speech disability, please dial 7-1-1 to access telecommunications relay services.

SUPPLEMENTARY INFORMATION: The records maintained in this system will be used to measure the effectiveness of two promising ways of providing TA to improve the quality of reading instruction and how struggling elementary school students are identified and provided with extra help. The information contained in the records maintained in this system will be used to address the following study research questions:

• Does the training and TA affect students' reading skills and achievement, both initially and over time? Does it help students identified as struggling in reading make more significant gains? Do the effects differ across the two strategies?

• Are the effects on reading related to elementary schools' experiences implementing the MTSS-R strategies, including the extent to which they carry out the strategies as intended and their use of key instructional practices?

• In what ways do these strategies affect the identification of special education students? What are their outcomes?

Accessible Format: On request to the program contact listed under FOR FURTHER INFORMATION CONTACT, individuals with disabilities can obtain this document in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site, you can view this document, as well as all other Department documents published in the Federal Register, in text or Portable Document Format (PDF). To use PDF you must have Adobe Acrobat Reader, which is available free at the site.

You may also access Department documents published in the Federal Register by using the article search feature at www.federalregister.gov. Specifically, through the advanced search feature at this site, you can limit your search to documents published by the Department.

Matthew Soldner,
Acting Director, Institute of Education Sciences.

For the reasons discussed in the preamble, the Acting Director of the Institute of Education Sciences, of the U.S. Department of Education, publishes a notice of a new system of records to read as follows:

SYSTEM NAME AND NUMBER:

Impact Evaluation of Training in Multi-Tiered Systems of Support for Reading (MTSS-R) in Early Elementary School (18-13-48).

SECURITY CLASSIFICATION:

Unclassified.

SYSTEM LOCATION:

Institute of Education Sciences (IES), U.S. Department of Education (Department), 550 12th Street SW, Washington, DC 20202. (This is the location of the IES Data Center.)

American Institutes for Research (AIR), 1400 Crystal Drive, 10th Floor, Arlington, VA 22202. (AIR is a Department contractor that will collect personally identifiable information regarding school staff, district-based coaches (namely, study-supported district staff who support MTSS-R team leaders, teachers, and interventionists in their practices), and students in participating districts and store these records until uploaded through secure transfer to the IES Data Center.)

School Readiness Consulting, 912 Thayer Avenue, Suite 209, Silver Spring, MD 20910. (School Readiness Consulting is a Department subcontractor that will collect personally identifiable information regarding school staff and district-based coaches in participating districts and store these records until uploaded through secure transfer to the IES Data Center.)

SYSTEM MANAGER(S):

Associate Commissioner, Evaluation Division, National Center for Education Evaluation and Regional Assistance, Institute of Education Sciences, U.S. Department of Education, 550 12th Street SW, Washington, DC 20202.

AUTHORITY FOR MAINTENANCE OF THE SYSTEM:

This study is authorized by section 664 of the Individuals with Disabilities Education Act (IDEA, 20 U.S.C. 1464), and section 8601 of the Elementary and Secondary Education Act of 1965 (ESEA) as amended by the Every Student Succeeds Act (ESSA, 20 U.S.C. 7981).

PURPOSE(S) OF THE SYSTEM:

The records maintained in this system will be used to measure the effectiveness of two promising ways of providing technical assistance (TA) to improve the quality of reading instruction and how struggling elementary school students are identified and provided with extra help. The information contained in the records maintained in this system will be used to address the following study research questions:

• Does the training and TA affect students' reading skills and achievement, both initially and over time? Does it help students identified as struggling in reading make more significant gains? Do the effects differ across the two strategies?

• Are the effects on reading related to elementary schools' experiences implementing the MTSS-R strategies, including the extent to which they carry out the strategies as intended and their use of key instructional practices?

• In what ways do these strategies affect the identification of special education students? What are their outcomes?

CATEGORIES OF INDIVIDUALS COVERED BY THE SYSTEM:

This system contains records on approximately 20 district-based coaches; school staff including 150 MTSS-R team leaders, 900 teachers, and 450 interventionists; and 22,500 students.

CATEGORIES OF RECORDS IN THE SYSTEM:

For district-based coaches (namely, study staff who support MTSS-R team leaders, teachers, and interventionists in their practices), records maintained in this system include name, work email, and work phone number, and the support that they provide to school staff including training, coaching, and problem-solving.

For MTSS-R team leaders (namely, school staff who oversee and support the MTSS-R program), records maintained in this system include name, work email, and work phone number (if available), activities as an MTSS-R team leader, and professional development experiences.

For teachers, records maintained in this system include name, work email, and work phone number (if available), educational background, professional development experiences, coaching experiences, and activities related to classroom instruction.

For interventionists (namely, school staff who administer supplemental support to struggling students), records maintained in this system include name, work email, and work phone number (if available), educational background, professional development experiences, coaching experiences, and activities related to the provision of supplemental supports for struggling students.

For students, records maintained in this system include name; demographic information such as race, date of birth, ethnicity, and gender; school information, such as the student's grade level, school name, teacher name, free or reduced-price lunch status, English learner status, special education status, and performance information on school-administered English language arts and mathematics state assessments; school-administered reading screening tests; and study-administered reading assessments.

RECORD SOURCE CATEGORIES:

Information in this system will be obtained through teacher and student records maintained by school districts and schools; surveys of MTSS-R team leaders, teachers, and interventionists; interviews of MTSS-R team leaders and district-based coaches; and direct assessments of students' reading skills.

ROUTINE USES OF RECORDS MAINTAINED IN THE SYSTEM, INCLUDING CATEGORIES OF USERS AND THE PURPOSES OF SUCH USES:

The Department may disclose information contained in a record in this system under the routine uses listed in this system of records without the consent of the individual if the disclosure is compatible with the purpose for which the record was collected. The Department may make these disclosures on a case-by-case basis or, if the Department has complied with the computer matching requirements of the Privacy Act of 1974, as amended (Privacy Act) (5 U.S.C. 552a), under a computer matching agreement. Any disclosure of personally identifiable information from a record in this system must also comply with the requirements of section 183 of the Education Sciences Reform Act of 2002 (ESRA) (20 U.S.C. 9573) providing for confidentiality standards that apply to all collections, reporting, and publication of data by IES. Any disclosure of personally identifiable information from student education records that were obtained from schools or school districts must also comply with the confidentiality requirements of the (Family Educational Rights and Privacy Act (FERPA) (20 U.S.C. 1232g; 34 CFR part 99), which protect the privacy of student education records, and, as applicable, the confidentiality requirements of the Individuals with Disabilities Education Act (IDEA) (20 U.S.C. 1401 et seq; 34 CFR part 300), which protect the privacy of education records of children referred to and served under the IDEA.

(1) Contract Disclosure. If the Department contracts with an entity for the purposes of performing any function that requires disclosure of records in this system to employees of the contractor, the Department may disclose the records to those employees. As part of such a contract, the Department will require the contractor to agree to maintain safeguards to protect the security and confidentiality of the records in the system.

(2) Research Disclosure. The Department may disclose records to a qualified researcher if the Department determines that the individual or organization to which the disclosure would be made is qualified to carry out specific research that is compatible with the purpose(s) of this system of records. The researcher must agree to safeguards, consistent with section 183(c) of the ESRA (20 U.S.C. 9573(c)), to protect the security and confidentiality of the records disclosed from this system. If the Department discloses, without prior written consent under FERPA, personally identifiable information from a student's education record to the researcher, the researcher also must agree to comply with the requirements in the applicable exception to FERPA's general written consent requirement (20 U.S.C. 1232g(b) and 34 CFR 99.31).

POLICIES AND PRACTICES FOR STORAGE OF RECORDS:

Records in this system are maintained in a secure, password-protected electronic system. The Department also maintains records on CD-ROM, and the contractor (AIR) and sub-contractor (School Readiness Consulting) maintain data for this system on computer systems and in hard copy.

POLICIES AND PRACTICES FOR RETRIEVAL OF RECORDS:

Records in this system are indexed and retrieved by a unique number assigned to each individual that is cross-referenced by the individual's name on a separate list.

POLICIES AND PRACTICES FOR RETENTION AND DISPOSAL OF RECORDS:

The Department submitted a retention and disposition schedule that is intended to cover the records contained in this system to the National Archives and Records Administration (NARA) in June 2022 for NARA's review. The records will not be destroyed until such a time as NARA approves said schedule.

ADMINISTRATIVE, TECHNICAL, AND PHYSICAL SAFEGUARDS:

Security protocols for this system of records meet all required security standards. All physical access to the Department's site and to the site of the Department's contractor and subcontractor, where this system of records is maintained, is controlled and monitored by security personnel. The computer system employed by the Department offers a high degree of resistance to tampering and circumvention. This system limits data access to Department and contract staff on a need-to-know basis and controls individual users' ability to access and alter records within the system. The contractor and subcontractor will establish a similar set of procedures at their sites to ensure the confidentiality of data. The contractor's and subcontractor's systems are required to ensure that information identifying individuals is in files physically separated from other research data. The contractor and subcontractor will maintain the security of the complete set of all master data files and documentation. Access to personally identifiable information will be strictly controlled. All information will be kept in locked file cabinets during nonworking hours, and work on hardcopy data will take place in a single room, except for data entry.

Security of electronic data will also be maintained. Security features that protect project data include password-protected accounts that authorize users to use the contractor's and subcontractor's system but to access only specific network directories and network software; user rights and directory and file attributes that limit those who can use particular directories and files and determine how they can use them; and additional security features that the network administrators will establish for projects as needed. The contractor's and subcontractor's employees who “maintain” (collect, maintain, use, or disseminate) data in this system shall comply with the requirements of the confidentiality standards in section 183 of the ESRA (20 U.S.C. 9573).

RECORD ACCESS PROCEDURES:

If you wish to gain access to your record, you must contact the system manager at the address listed above. Your request must provide necessary particulars of your full name, address, telephone number, and any other identifying information requested by the Department, to distinguish between individuals with the same name. Your request must meet the requirements of regulations at 34 CFR 5b.5.

CONTESTING RECORD PROCEDURES:

If you wish to contest the content of a record regarding you, you must contact the system manager at the address listed above. Requests must contain your full name, address, telephone number, and any other identifying information requested by the Department to distinguish between individuals with the same name. Your request must meet the requirements of the regulations at 34 CFR 5b.7.

NOTIFICATION PROCEDURES:

If you wish to determine whether a record exists regarding you, you must contact the systems manager at the address listed above. Your request must provide necessary particulars, such as your full name, address, telephone number, and any other identifying information requested by the Department while processing the request, to distinguish between individuals with the same name. Your request must meet the requirements of regulations at 34 CFR 5b.5.

EXEMPTIONS PROMULGATED FOR THE SYSTEM:

None.

HISTORY:

None.

[FR Doc. 2024-23517 Filed 10-10-24; 8:45 am]

BILLING CODE 4000-01-P